DEPARTMENT OF TRANSPORTATION

Federal Aviation Administration

14 CFR Part 91

[Docket No. FAA-2007-29305; Amdt. No. 91-314-A]

RIN 2120-AI92

Automatic Dependent Surveillance—Broadcast (ADS-B) Out Performance Requirements To Support Air Traffic Control (ATC) Service; Correction

AGENCY: Federal Aviation Administration (FAA), DOT.

ACTION: Final rule; correction.

SUMMARY: The FAA is correcting a final rule published on May 28, 2010. In that rule, the FAA amended its regulations to add equipage requirements and performance standards for Automatic Dependent Surveillance—Broadcast (ADS-B) Out avionics on aircraft operating in Classes A, B, and C airspace, as well as certain other specified classes of airspace within the U.S. National Airspace System (NAS). This document corrects errors in footnoted material in the preamble and cross references in the preamble and rule text of that final rule.

DATES: The final rule and this correction will become effective August 11, 2010.

FOR FURTHER INFORMATION CONTACT: For technical questions concerning this final rule, contact Vincent Capezzuto, Surveillance and Broadcast Services, AJE-6, Air Traffic Organization, Federal Aviation Administration, 800 Independence Avenue, SW., Washington, DC 20591; telephone (202) 385-8637; email vincent.capezzuto@faa.gov.

For legal questions concerning this final rule, contact Lorelei Peter, Office of the Chief Counsel, AGC-220, Federal Aviation Administration, 800 Independence Avenue, SW., Washington, DC 20591; telephone 202-267-3134; e-mail lorelei.peter@faa.gov.

SUPPLEMENTARY INFORMATION:

Background

On May 28, 2010, the FAA published a final rule entitled, “Automatic Dependent Surveillance—Broadcast (ADS-B) Out Performance Requirements To Support Air Traffic Control (ATC) Service” (75 FR 30160).

There are three footnotes in the preamble for the final rule that refer the reader to the docket to find information on the analyses and evaluations performed by the Separation Standards Working Group. The FAA is revising two of those footnotes (footnotes 23 and 33) to clarify that the cited material is contained in Annexes B and G of RTCA DO-318 Safety, Performance and Interoperability Requirements Document for Enhanced Air Traffic in Radar-Controlled Areas Using ADS-B Surveillance (ADS-B RAD). A copy of those two annexes is in the docket. The third footnote (footnote 54) cites a SBS Working Group Report, dated November 30, 2006. This footnote should reference instead Annexes B and G of RTCA DO-318.

In addition, both the preamble discussion and the regulatory text of §§ 91.225 and 91.227 address equipment with an approved deviation under § 21.618. By separate rulemaking entitled “Production and Airworthiness Approval, Part Marking, and Miscellaneous Amendments,” published October 16, 2009 (74 FR 53368), the FAA revised part 21 subpart O, and § 21.609 Approval for deviation was renumbered as § 21.618, effective April 14, 2010. The FAA later published a correction to that rule on March 1, 2010 (75 FR 9095) changing the effective date for the revision of subpart O to April 16, 2011. In the ADS-B final rule, therefore, the FAA is changing the references from § 21.618 to § 21.609 to reflect the correct section number. The FAA also is issuing a separate technical amendment elsewhere in this issue of the Federal Register to change the reference from § 21.609 to § 21.618, effective April 16, 2011.

In final rule FR Doc. 2010-12645, beginning on page 30160, in the Federal Register of May 28, 2010, make the following corrections:

Corrections to Preamble

1. On page 30164, in the second column, in fourth line, revise “§ 21.618” to read “§ 21.609.”

2. On page 30166, in the second column, revise footnote 23 to read as follows:

²³ The SSWG findings and analyses were adopted by RTCA SC-186 and codified in Annexes B and G of DO-318 Safety, Performance and Interoperability Requirements Document for Enhanced Air Traffic in Radar-Controlled Areas Using ADS-B Surveillance (ADS-B RAD). The annexes are available at http://www.regulations.gov. The docket number for this rulemaking is FAA-2007-29305.

3. On page 30169, in the third column, revise footnote 33 to read as follows:

³³ The FAA's determination was based on the findings of the SSWG, which were adopted by RTCA SC-186 and codified in Annexes B and G of DO-318 Safety, Performance and Interoperability Requirements Document for Enhanced Air Traffic in Radar-Controlled Areas Using ADS-B Surveillance (ADS-B RAD). The annexes are available at http://www.regulations.gov. The docket number for this rulemaking is FAA-2007-29305.

4. On page 30179, in the third column, revise footnote 54 to read as follows:

⁵⁴ These operational evaluations were based on the findings of the SSWG, were adopted by RTCA SC-186 and codified in Annexes B and G of DO-318 Safety, Performance and Interoperability Requirements Document for Enhanced Air Traffic in Radar-Controlled Areas Using ADS-B Surveillance (ADS-B RAD). The annexes are available at http://www.regulations.gov. The docket number for this rulemaking is FAA-2007-29305.

Corrections to Regulatory Text

§ 91.225 [Corrected]

1. On page 30193, in the third column, amend § 91.225 (c) by revising “§ 21.618” to read “§ 21.609.”

§ 91.227 [Corrected]

2. On page 30195, in the second column, amend § 91.227 (f) by revising “§ 21.618” to read “§ 21.609.”

Issued in Washington, DC, on June 24, 2010.
Pamela Hamilton-Powell,
Director, Office of Rulemaking.

[FR Doc. 2010-15852 Filed 6-29-10; 8:45 am]

BILLING CODE 4910-13-P